DEPARTMENT OF STATE

[Public Notice: 7322]

U.S. Department of State Advisory Committee on Private International Law (ACPIL): Public Meeting on Jurisdiction and the Recognition and Enforcement of Judgments

The Department of State, Office of Legal Adviser, Office of Private International Law would like to give notice of a public meeting to discuss issues relating to jurisdiction and the recognition and enforcement of judgments. The European Commission released on December 14, 2010 its proposal, COM(2010) 748 final, for amendments to Council Regulation (EC) No. 44/2001 of 22 December 2001 on jurisdiction and the recognition and enforcement of judgments in civil and commercial matters (known as “Brussels I”). See http://ec.europa.eu/justice/policies/civil/docs/com_2010_748_en.pdf.

Under the current text of Brussels I, most of the rules apply only to defendants domiciled in a EU member state. When the defendant is not a domiciliary of a EU member state, jurisdiction in civil actions is governed by the national law of the relevant member state, rather than by the jurisdictional rules set forth in Brussels I. The proposed amendments would, inter alia, do away with that distinction, making the Brussels I rules applicable in all cases, regardless of the domicile of the defendant. These changes have potentially significant implications for U.S. citizens and residents who are involved in civil actions in EU member states. The Commission's proposal will now be considered by the European Council and by the European Parliament.

In addition, last year the Council on General Affairs and Policy of the Hague Conference on Private International Law considered a proposal to continue work in the judgments area. Work in that forum had previously led to the conclusion in 2005 of the Convention on Choice of Court Agreements, which is not yet in force. The State and Justice Departments are currently engaged in discussions with various domestic stakeholders regarding implementing legislation for that Convention. The scope of that Convention is limited to situations in which the parties have expressly designated the court or courts in which disputes will be resolved; it does not address many other situations, including non-contract actions, in which no such choice has been made. At the Hague Conference, it has been proposed that an experts' group be convened to consider possible options for a broader instrument. In April 2011, the Conference's Council on General Affairs and Policy will hold its annual meeting and will revisit this topic.

The purpose of the public meeting, to be held under the auspices of the State Department's Advisory Committee on Private International Law, is to consider these developments and possible responses by the U.S. Government.

Time and Place: The public meeting will take place on Wednesday, March 23, 2011 from 8:30 to 11:30 am EST at Covington & Burling LLP, 1201 Pennsylvania Avenue, NW., Washington, DC. Participants should appear at the guards' desk at Covington & Burling by 8:15 am to be directed to the meeting location.

Public Participation: This meeting is open to the public, subject to the capacity of the meeting room. Because of space limitations, those wishing to attend are required to pre-register. If you are unable to attend the public meeting and would like to participate from a remote location, teleconferencing will be available.

Persons wishing to attend in person or telephonically should contact Trisha Smeltzer (SmeltzerTK@state.gov) or Niesha Toms (TomsNN@state.gov) of the Office of Private International Law and provide your name, affiliation, e-mail address, and mailing address.

Dated: February 7, 2011.
Michael S. Coffee,
Attorney-Adviser, Office of Private International Law, Office of the Legal Adviser, Department of State.

[FR Doc. 2011-3524 Filed 2-15-11; 8:45 am]

BILLING CODE 4710-08-P